ENVIRONMENTAL PROTECTION AGENCY

[EPA-HQ-OPP-2017-0751; FRL-9436-01-OCSPP]

Pesticide Registration Review; Interim Decision; Notice of Availability; Correction

AGENCY: Environmental Protection Agency (EPA).

ACTION: Notice; correction.

SUMMARY: EPA issued a notice in the Federal Register of July 30, 2021, concerning the availability of EPA's interim registration review decisions and case closures for several pesticides, including citric acid. This document corrects an incorrect docket number and case number in the notice for citric acid.

FOR FURTHER INFORMATION CONTACT: SanYvette Williams, Antimicrobials Division (7510P), Office of Pesticide Programs, Environmental Protection Agency, 1200 Pennsylvania Ave. NW, Washington, DC 20460-0001; telephone number: (202) 566-0912; email address: williams.sanyvette@epa.gov.

SUPPLEMENTARY INFORMATION:

I. General Information

A. Does this action apply to me?

The Agency included in the July 30, 2021 notice a list of those who may be potentially affected by this action.

B. How can I get copies of this document and other related information?

The docket for this action, identified by docket identification (ID) number EPA-HQ-OPP-2017-0751, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Due to the public health concerns related to COVID-19, the EPA Docket Center (EPA/DC) and Reading Room are closed to visitors with limited exceptions. The staff continues to provide remote customer service via email, phone, and webform. For the latest status information on EPA/DC services and docket access, visit http://www.epa.gov/dockets.

II. What does this correction do?

FR Doc. 2021-16318 published in the Federal Register of July 30, 2021 (86 FR 41032) (FRL-8677-01-OCSPP) is corrected as follows:

1. On page 41032, second column, under the heading, “Table 1—Registration Review Interim Decisions Being Issued”, Docket ID No., line 4, correct “EPA-HQ-OPP-2008-0855” to read “EPA-HQ-OPP-2020-0558”.

2. The first column under the same heading, under “Registration Review case name and No.”, line 4, should correct “Citric acid, Case Number 4024” to read “Citric acid, Case Number 4024-2”.

Authority: 7 U.S.C. 136 et seq.

Dated: January 28, 2022.
Anita Pease,
Director, Antimicrobials Division, Office of Pesticide Programs.

[FR Doc. 2022-02208 Filed 2-2-22; 8:45 am]

BILLING CODE 6560-50-P